DEPARTMENT OF COMMERCE

National Oceanic and Atmospheric Administration

[I.D. 020805A]

Receipt of An Application for Direct Take Permit 1520

AGENCY: National Marine Fisheries Service (NMFS), National Oceanic and Atmospheric Administration, Commerce

ACTION: Notice of availability for public comment.

SUMMARY: NMFS has received an application from the Confederated Tribes of the Colville Reservation (CCT) for a direct take permit pursuant to the Endangered Species Act of 1973, as amended (ESA). The duration of the proposed Permit is 5 years. NMFS is furnishing this notice in order to allow other agencies and the public an opportunity to review and comment on the document. All comments received will become part of the public record and will be available for review pursuant to the ESA.

DATES: Written comments from interested parties on the Permit application must be received at the appropriate address or fax number (see ADDRESSES) no later than 5 pm Pacific standard time on March 17, 2005.

ADDRESSES: Written comments on the application should be sent to Kristine Petersen, Salmon Recovery Division, F/NWR1, 525 NE Oregon Street, Suite 510, Portland, OR 97232 or electronically to kristine.petersen@noaa.gov. Comments may also be sent via fax to (503)872-2737. The mailbox address for providing e-mail comments is Okanogan.nwr@noaa.gov. Include in the subject line the following document identifier: “Okanogan River monitoring”. Requests for copies of the permit application should be directed to the Salmon Recovery Division, F/NWR1, 525 NE Oregon Street, Suite 510, Portland, OR 97232. The documents are also available on the Internet at www.nwr.noaa.gov/1srd. Comments received will also be available for public inspection, by appointment, during normal business hours by calling (503) 230-5409.

FOR FURTHER INFORMATION CONTACT: Kristine Petersen, Portland, OR (ph: (503) 230-5409, fax: (503) 872-2737, e-mail: kristine.petersen@noaa.gov).

SUPPLEMENTARY INFORMATION: Section 9 of the ESA and Federal regulations prohibit the “taking” of a species listed as endangered or threatened. The term “take” is defined under the ESA to mean harass, harm, pursue, hunt, shoot, wound, kill, trap, capture, or collect, or to attempt to engage in any such conduct. NMFS may issue permits, under limited circumstances, to take listed species for scientific purposes or to enhance the propagation or survival of the species under section 10(a)(1)(A) of the ESA. NMFS regulations governing permits for threatened and endangered species are promulgated at 50 CFR 222.307.

Species Covered in This Notice

The following evolutionarily significant units (ESUs) are included in the Permit application:

Steelhead (Oncorhynchus mykiss): endangered, naturally produced and artificially propagated Upper Columbia River (UCR).

Application Received

On January 18, 2005, the CCT submitted an application to NMFS for an ESA section 10(a)(1)(A) permit for the take of ESA-listed anadromous fish species associated with monitoring of salmon and steelhead in the Okanogan River, a tributary of the Columbia River in Washington.

This notice is provided pursuant to section 10(c) of the ESA. NMFS will evaluate the application, associated documents, and comments submitted thereon to determine whether the application meets the requirements of section 10(a)(1)(A) of the ESA. If it is determined that the requirements are met, a permit will be issued to the CCT for the monitoring actions in the Okanogan River. NMFS will publish a record of its final action in the Federal Register.

Dated: February 10, 2005.
Susan Pultz,
Acting Division Chief, Endangered Species Division, Office of Protected Resources, National Marine Fisheries Service.

[FR Doc. 05-2900 Filed 2-14-05; 8:45 am]

BILLING CODE 3510-22-S